DEPARTMENT OF JUSTICE

Antitrust Division

Notice Pursuant to the National Cooperative Research and Production Act of 1933; Standard MEMS

Notice is hereby given that, on August 3, 1999, pursuant to section 6(a) of the National Cooperative Research and Production Act of 1993, 15 U.S.C. 4301 et seq. (“the Act”), Standard MEMS has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Microscan Systems, Inc., Renton, WA; Maxim Integrated Products, Sunnyvale, CA; Microcosm Technologies, Inc., Cambridge, MA; Optical Micro Systems, Inc., San Diego, CA; Standard MEMS, Hauppauge, NY; and Xerox Corporation, Webster, NY. The nature and objectives of the venture are to develop a manufacturing process and manufacturing infrastructure for Micro-Opto-Electro-Mechanical Systems. The activities of this project will be partially funded by an award from the Advanced Technology Program, National Institute of Standards and Technology, Department of Commerce. The goals of this collaboration are to overcome the barriers that limit the application of low-cost Micro-Opto-Electro-Mechanical Systems (MOEMS) devices in commercial applications in telecommunications, data acquisition, and reprographics. The most important technical barriers are in the areas of packaging, systems partitioning, the optical and mechanical properties of thin film elements, and the assembly and alignment of free-space micro-optical systems. To overcome the technical barriers, Standard MEMS will develop a broadly enabling MOEMS fabrication process, and utilize this process to demonstrate prototype MOEMS devices at Optical Micro-Machines, Microscan Systems, and Xerox, to enable commercialization of the prototypes following the completion of the ATP collaboration.

Constance K. Robinson,
Director of Operations, Antitrust Division.

[FR Doc. 00-6953 Filed 3-20-00; 8:45 am]

BILLING CODE 4410-11-M